DEPARTMENT OF VETERANS AFFAIRS

[OMB Control No. 2900-0465]

Agency Information Collection Activity Under OMB Review: Student Verification of Enrollment

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before November 27, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0465” in any correspondence.

FOR FURTHER INFORMATION CONTACT: Danny S. Green, (202) 421-1354 or email Danny.Green2@va.gov. Please refer to “OMB Control No. 2900-0465” in any correspondence.

SUPPLEMENTARY INFORMATION:

Authority: 44 U.S.C. 3501-21.

Title: Student Verification of Employment, VA Form 22-8979.

OMB Control Number: 2900-0465.

Type of Review: Revision of a currently approved collection.

Abstract: VA Form 22-8979 is used by students to submit their verification of enrollment on a monthly basis to allow for a frequent and periodic release of payment. Without this information, VA could not pay benefits based on proof of attendance and/or change in enrollment.

An agency may not conduct or sponsor, and a person is not required to respond to a collection of information unless it displays a currently valid OMB control number. The Federal Register Notice with a 60-day comment period soliciting comments on this collection of information was published at Vol. 84, No. 154, on August 9, 2019, page 39395.

Affected Public: Individuals.

Estimated Annual Burden: 15,479.

Estimated Average Burden per Respondent: 1 minute.

Frequency of Response: On occasion (5 certifications per student per year).

Estimated Number of Respondents: 185,008 (928,740 responses).

By direction of the Secretary.
Danny S. Green,
VA Interim Clearance Officer, Office of Quality, Performance and Risk, Department of Veterans Affairs.

[FR Doc. 2019-23452 Filed 10-25-19; 8:45 am]

BILLING CODE 8320-01-P